DEPARTMENT OF LABOR

Employment and Training Administration

[TA-W-52,579]

Wellington Synthetic Fibers, Leesville, SC; Notice of Termination of Investigation

Pursuant to section 221 of the Trade Act of 1974, as amended, an investigation was initiated on August 18, 2003, in response to a petition filed by a company official on behalf of workers at Wellington Synthetic Fibers, Leesville, South Carolina.

The petitioner has requested that the petition be withdrawn. Consequently, the investigation has been terminated.

Signed at Washington, DC, this 4th day of September, 2003.
Richard Church,
Certifying Officer, Division of Trade Adjustment Assistance.

[FR Doc. 03-27572 Filed 10-31-03; 8:45 am]

BILLING CODE 4510-30-P